DEPARTMENT OF THE INTERIOR

Bureau of Ocean Energy Management

Outer Continental Shelf Scientific Committee; Announcement of Plenary Session

AGENCY: Bureau of Ocean Energy Management (BOEM), Interior.

ACTION: Notice of Meeting.

SUMMARY: The Outer Continental Shelf (OCS) Scientific Committee (SC) will meet at the Fess Parker's Doubletree Resort.

DATES: Tuesday, May 22, 2012, from 8:30 a.m. to 5:00 p.m.; Wednesday, May 23, 2012, from 8:30 a.m. to 5:00 p.m.; and on Thursday, May 24, 2012, from 9:00 a.m. to 3:30 p.m.

ADDRESSES: 633 East Cabrillo Boulevard, Santa Barbara, California 93103, telephone (805) 564-4333.

FOR FURTHER INFORMATION CONTACT: A copy of the agenda may be requested from BOEM by emailing Ms. Phyllis Clark at Phyllis.Clark@boem.gov. Other inquiries concerning the OCS SC meeting should be addressed to Dr. Rodney Cluck, Executive Secretary to the OCS SC, Bureau of Ocean Energy Management, 381 Elden Street, Mail Stop HM-3115, Herndon, Virginia 20170-4817, or by calling (703) 787-1087 or via email at Rodney.Cluck@boem.gov.

SUPPLEMENTARY INFORMATION: The OCS SC will provide advice on the feasibility, appropriateness, and scientific value of the OCS Environmental Studies Program to the Secretary of the Interior through the Director of BOEM. The SC will review the relevance of the research and data being produced to meet BOEM's scientific information needs for decision making and may recommend changes in scope, direction, and emphasis.

The Committee will meet in plenary session on Tuesday, May 22. The Chief Environmental Officer will address the Committee on the general status of BOEM and its activities. There will be an update from each region's Environmental Studies Chief on OCS activities and current issues.

On Wednesday, May 23, the Committee will meet in discipline breakout groups (i.e., biology/ecology, physical sciences, and social sciences) to review the specific research plans of BOEM's regional offices for Fiscal Years 2013 and 2014.

On Thursday, May 24, the Committee will meet in plenary session for reports of the individual discipline breakout sessions of the previous day and to continue with Committee business.

The meetings are open to the public. Approximately 30 visitors can be accommodated on a first-come-first-served basis at the plenary session.

Authority: Federal Advisory Committee Act, Pub. L. 92-463, 5 U.S.C., Appendix I, and the Office of Management and Budget's Circular A-63, Revised.

Dated: May 3, 2012.
Alan Thornhill,
Chief Environmental Officer, Bureau of Ocean Energy Management.

[FR Doc. 2012-11277 Filed 5-9-12; 8:45 am]

BILLING CODE 4310-VH-P